FEDERAL MARITIME COMMISSION

[Docket No. 00-01]

Kawasaki Kisen Kaisha, Ltd. v. Intercontinental Exchange, Inc.; Notice of Filing of Complaint and Assignment

Notice is given that a complaint was filed by Kawasaki Kisen Kaisha, Ltd. (“Complainant”), against Intercontinental Exchange, Inc. (“Respondent”). The complaint was served on January 7, 2000. Complainant alleges that Respondent, an ocean transportation intermediary, violated section 10(a)(1) of the Shipping Act of 1984, 46 U.S.C. app. section 1709(a)(1), by incurring unpaid freight charges pursuant a service contract in the amount of $265,126.23, making false representations, uttering checks without funds, and presenting false Wire Transfer Requests.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by January 8, 2001, and the final decision of the Commission shall be issued by May 8, 2001.

Bryant L. VanBrakle,
Secretary.

[FR Doc. 00-1024 Filed 1-14-00; 8:45 am]

BILLING CODE 6730-01-M